CONSUMER PRODUCT SAFETY COMMISSION

Sunshine Act Meeting

TIME AND DATE: Wednesday, December 16, 2020, 10:00 a.m.

PLACE: This meeting will be conducted by remote means.

STATUS: Commission Meeting—Open to the Public.

Matter To Be Considered: Decisional Matter: CPSC Plan to Create e-Filing Program for Imported Consumer Products.

ATTENDANCE: Due to the COVID 19 Pandemic this Commission Meeting will be held by remote means. If you would like to attend the meeting follow the directions under virtual meeting attendance on CPSC.gov: https://www.cpsc.gov/Newsroom/Public-Calendar.

CONTACT PERSON FOR MORE INFORMATION: Alberta Mills, Office of the Secretariat, Office of the General Counsel, U.S. Consumer Product Safety Commission, 4330 East West Highway, Bethesda, MD 20814, (301) 504-6833 (Office) or (240) 863-8938 (Cell).

Dated: December 9, 2020.
Alberta E. Mills,
Secretary.

[FR Doc. 2020-27411 Filed 12-9-20; 11:15 am]

BILLING CODE 6355-01-P